DEPARTMENT OF THE INTERIOR

National Park Service

[NPS-WASO-NAGPRA-NPS0036057; PPWOCRADN0-PCU00RP14.R50000]

Notice of Inventory Completion: U.S. Army Corps of Engineers, Portland District, Portland, OR, and Burke Museum of Natural History and Culture, Seattle, WA

AGENCY: National Park Service, Interior.

ACTION: Notice.

SUMMARY: In accordance with the Native American Graves Protection and Repatriation Act (NAGPRA), the U.S. Army Corps of Engineers, Portland District (USACE) and the Burke Museum of Natural History and Culture (Burke Museum) have completed an inventory of human remains and associated funerary objects and have determined that there is a cultural affiliation between the human remains and associated funerary objects and Indian Tribes or Native Hawaiian organizations in this notice. The human remains and associated funerary objects were removed from Skamania County, WA.

DATES: Repatriation of the human remains and associated funerary objects in this notice may occur on or after July 24, 2023.

ADDRESSES: Mr. Daniel M. Mulligan, U.S. Army Corps of Engineers, Portland District, ATTN: CENWP-PME-CR, 333 SW 1st Avenue, Portland, OR 97204-3495, telephone (503) 808-4768, email daniel.m.mulligan@usace.army.mil and Dr. Peter Lape, Burke Museum of Natural History and Culture, 4303 Memorial Way NE, Seattle, WA 98195, telephone (206) 685-3849 Ext. 2, email plape@uw.edu.

SUPPLEMENTARY INFORMATION: This notice is published as part of the National Park Service's administrative responsibilities under NAGPRA. The determinations in this notice are the sole responsibility of the USACE. The National Park Service is not responsible for the determinations in this notice. Additional information on the determinations in this notice, including the results of consultation, can be found in the inventory or related records held by the USACE and the Burke Museum.

Description

Human remains representing, at minimum, one individual were removed from Skamania County, WA. Between 1974 and 1976, the University of Washington, under contract with the National Park Service, conducted surface surveys and excavations at Site 45SA16, also known as the Fort Rains (or Fort Raines) Site, on USACE project land, prior to construction of the Second Powerhouse at Bonneville Dam. Following the completion of initial surveys and excavations at the site in 1974, subsequent surface inspections took place in July of 1976, which resulted in Native American human remains and cultural items being collected and retained (under the provisions of Antiquities Act permits), and subsequently transferred to the Burke Museum for curation. It was believed by USACE and Burke Museum officials that all NAGPRA items, including Native American human remains, associated funerary objects, unassociated funerary objects, and items of cultural patrimony that had been collected in Skamania County on USACE project land and transferred to the Burke Museum had been thoroughly inventoried and returned to culturally affiliated Indian Tribes prior to 2012. In May of 2022, a rehousing and cataloging project of USACE archeological collections at the Burke Museum revealed that a bag containing three interior bags had been misidentified as containing archeological material recovered from nearby Site 45SA14. Upon inspection, one bag contained fragmented human remains and the other two bags contained surface-collected materials that are presumed to be associated funerary objects recovered from Site 45SA16 in July 1976. No known individual was identified. The 15 associated funerary objects are seven stone flakes; four stone shatter fragments; two glass beads; one stone core; and one non-human, unidentified mammal long bone shaft fragment.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, oral traditional, other relevant information, and tribal expert opinion.

Determinations

Pursuant to NAGPRA and its implementing regulations, and after consultation with the appropriate Indian Tribes and Native Hawaiian organizations, the USACE has determined that:

• The human remains described in this notice represent the physical remains of, at minimum, one individual of Native American ancestry.

• The 15 objects described in this notice are reasonably believed to have been placed with or near individual human remains at the time of death or later as part of the death rite or ceremony.

• There is a relationship of shared group identity that can be reasonably traced between the human remains and associated funerary objects described in this notice and the Confederated Tribes and Bands of the Yakama Nation; Confederated Tribes of Siletz Indians of Oregon; Confederated Tribes of the Grand Ronde Community of Oregon; Confederated Tribes of the Umatilla Indian Reservation; Confederated Tribes of the Warm Springs Reservation of Oregon; Cowlitz Indian Tribe; and the Nez Perce Tribe.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 24, 2023. If competing requests for repatriation are received, the USACE must determine the most appropriate requestor prior to repatriation. Requests for joint repatriation of the human remains and associated funerary objects are considered a single request and not competing requests. The USACE is responsible for sending a copy of this notice to the Indian Tribes identified in this notice.

Authority: Native American Graves Protection and Repatriation Act, 25 U.S.C. 3003, and the implementing regulations, 43 CFR 10.9, 10.10, and 10.14.

Dated: June 14, 2023.
Melanie O'Brien,
Manager, National NAGPRA Program.

[FR Doc. 2023-13295 Filed 6-21-23; 8:45 am]

BILLING CODE 4312-52-P